DEPARTMENT OF AGRICULTURE

Forest Service

Notice of Sanders County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Lolo and Kootenai National Forests' Sanders County Resource Advisory Committee will meet on August 27 at 6 p.m. in Thompson Falls, Montana for a business meeting. The meeting is open to the public.

DATES: August 27, 2002.

ADDRESSES: The meeting will be held at the Thompson Falls Courthouse, 1111 Main Street, Thompson Falls, MT 59873.

FOR FURTHER INFORMATION CONTACT: Lisa Krueger, Designated Forest Official (DFO), District Ranger Plains/Thompson Falls District, Lolo National Forest at (406) 826-4321, or Brian Avery, District Ranger, Cabinet Ranger District, Kootenai National Forest at (406) 827-3533.

SUPPLEMENTARY INFORMATION: If the meeting location is changed, notice will be posted in the local newspapers, including the Clark Fork Valley Press, the Sanders County Ledger, Daily Interlake and the Missoulian.

Dated: August 16, 2002.
Brian Avery,
Committee Coordinator, District Ranger, Cabinet Ranger District.

[FR Doc. 02-21541 Filed 8-22-02; 8:45 am]

BILLING CODE 3410-11-M